DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Management and Oversight of the National Estuarine Research Reserve System.

OMB Control Number: 0648-0121.

Form Number(s): None.

Type of Request: Regular (extension of a currently approved information collection).

Number of Respondents: 75.

Average Hours per Response: Management plan, 1800 hours; site profile, 1800 hours; award application, 8 hours; award reports, 5 hours; designations, 2000 hours; NEPA documentation, 40 hours.

Burden Hours: 8,216.

Needs and Uses: The Coastal Zone Management Act of 1972 (CZMA; 16 U.S.C. 1461 et seq.) provides for the designation of estuarine research reserves representative of various regions and estuarine types in the United States to provide opportunities for long-term research, education and interpretation. During the site selection and designation process, information is collected from states in order to prepare a management plan and environmental impact statement. Designated reserves apply annually for operations funds by submitting a work plan; subsequently progress reports are required every six months for the duration of the award. Each reserve compiles an ecological characterization or site profile to describe the biological and physical environment of the reserve, research to date and research gaps. Reserves revise their management plans every five years. This information is required to ensure that reserves are adhering to regulations and that the reserves are in keeping with the purpose for which they were designated.

Affected Public: Not-for-profit instituations; state, local or tribal government.

Frequency: On occasion, semi-annually and annually.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 22, 2017.
Sarah Brabson,
NOAA PRA Clearance Officer.

[FR Doc. 2017-05973 Filed 3-24-17; 8:45 am]

BILLING CODE 3510-08-P